DEPARTMENT OF COMMERCE

International Trade Administration

Notice of Scope Rulings

AGENCY: Import Administration, International Trade Administration, Department of Commerce.

DATES: Effective Date: February 21, 2012.

SUMMARY: The Department of Commerce (“Department”) hereby publishes a list of scope rulings completed between April 1, 2011, and June 30, 2011. In conjunction with this list, the Department is also publishing a list of requests for scope rulings and anticircumvention determinations pending as of June 30, 2011. We intend to publish future lists after the close of the next calendar quarter.

FOR FURTHER INFORMATION CONTACT: Julia Hancock, AD/CVD Operations, China/NME Group, Import Administration, International Trade Administration, U.S. Department of Commerce, 14th Street and Constitution Avenue NW., Washington, DC 20230; telephone: 202-482-1394.

SUPPLEMENTARY INFORMATION:

Background

The Department's regulations provide that the Secretary will publish in the Federal Register a list of scope rulings on a quarterly basis. See 19 CFR 351.225(o). Our most recent notification of scope rulings was published on November 29, 2011. See Notice of Scope Rulings, 76 FR 73596 (November 29, 2011). This current notice covers all scope rulings and anticircumvention determinations completed by Import Administration between April 1, 2011, and June 30, 2011, inclusive, and it also lists any scope or anticircumvention inquiries pending as of June 30, 2011. As described below, subsequent lists will follow after the close of each calendar quarter.

Scope Rulings Completed Between April 1, 2011, and June 30, 2011

People's Republic of China

A-570-504: Petroleum Wax Candles from the People's Republic of China.

Requestor: R&D Chemicals, Inc.; “Bite Lite” brand candles are not within the scope of the antidumping duty order; April 18, 2011.

A-570-601: Tapered Roller Bearings from the People's Republic of China.

Requestor: New Trend Engineering Limited; its wheel hub units are within the scope of the antidumping duty order; April 18, 2011.

A-570-601: Tapered Roller Bearings from the People's Republic of China.

Requestor: Bosda International (USA) LLC and Kingdom Auto Parts Ltd.; its wheel hub units are within the scope of the antidumping duty order; June 14, 2011.

A-570-803: Heavy Forged Hand Tools from the People's Republic of China.

Requestor: Lucky Distributing, Inc.; Lucky Distributing, Inc.'s cast smart splitter is not within the scope of the antidumping duty order; June 6, 2011.

A-570-868: Folding Metal Tables and Chairs from the People's Republic of China.

Requestor: Lifetime Products, Inc.; its 33-inch round tables are not within the scope of the antidumping duty order; May 2, 2011.

A-570-868: Folding Metal Tables and Chairs from the People's Republic of China.

Requestor: Meco Corporation; its pedestal tables are not within the scope of the antidumping duty order; May 19, 2011.

A-570-890: Wooden Bedroom Furniture from the People's Republic of China.

Requestor: Acme Furniture Industry Inc.; partially upholstered daybed with trundle unit is within the scope of the antidumping duty order; fully upholstered daybed without trundle unit is not within the scope of the antidumping duty order; April 15, 2011.

A-570-890: Wooden Bedroom Furniture from the People's Republic of China.

Requestor: Ashley Furniture Industries Inc.; certain polyurethane mirrors and an upholstered mirror are not within the scope of the antidumping duty order; April 26, 2011.

A-570-900: Diamond Sawblades and Parts Thereof from the People's Republic of China.

Requestor: Gang Yan Diamond Products, Inc.; certain rescue/demolition blades are not within the scope of the antidumping duty order; June 27, 2011.

A-570-912/C-570-913: Certain New Pneumatic Off-The-Road Tires from the People's Republic of China.

Requestor: OTR Wheel Engineering, Inc.; its Trac Master and Traction Master tires are within the scope of the antidumping duty and countervailing duty orders; April 26, 2011.

A-570-916/C-570-917: Laminated Woven Sacks from the People's Republic of China.

Requestor: The Super Poly Partnership; the laminated woven sacks produced by The Super Poly Partnership from imported woven fabric are not within the scope of the antidumping duty and countervailing duty orders; May 18, 2011.

A-570-922/C-570-923: Raw Flexible Magnets from the People's Republic of China.

Requestor: Smith-Western Co.; certain decorative refrigerator magnets are not within the scope of the antidumping duty and countervailing duty orders; April 15, 2011.

A-570-928: Uncovered Innersprings from the People's Republic of China.

Requestor: Wickline Bedding Enterprises; Wickline's premium and standard unfinished mattresses are not within the scope of the antidumping duty order; May 31, 2011.

A-570-932: Certain Steel Threaded Rod from the People's Republic of China.

Requestor: Powerline Hardware, LLC; the spool bolts and shank pins it imports are not within the scope of the antidumping duty order; May 13, 2011.

A-570-932: Certain Steel Threaded Rod from the People's Republic of China.

Requestor: A.L. Patterson; its engineered steel coil rod is within the scope of the antidumping duty order; May 24, 2011.

A-570-937/C-570-938: Citric Acid and Certain Citrate Salts from the People's Republic of China.

Requestor: Global Commodity Group LLC (“GCG”); the People's Republic of China (“PRC”)-origin portion of GCG's “blended” citric acid is within the scope of the antidumping duty and countervailing duty orders, and is dutiable according to the amount of citric acid from the PRC that it contains; May 2, 2011.

A-570-941/C-570-942: Kitchen Appliance Shelving and Racks from the People's Republic of China.

Requestor: Olson Wire Products Co., Ltd.; its certain supermarket shelving units and commercial oven racks that fit within size parameters of the scope of the antidumping duty order are subject to the antidumping duty order; its certain supermarket shelving units and commercial oven racks that do not fit within the size parameters of the scope (i.e. shelving and racks with dimensions ranging from 3 inches by 5 inches by 0.10 inch to 28 inches by 34 inches by 6 inches; baskets with dimensions ranging from 2 inches by 4 inches by 3 inches to 28 inches by 34 inches by 16 inches; side racks from 6 inches by 8 inches by 0.1 inch to 16 inches by 30 inches by 4 inches; or subframes from 6 inches by 10 inches by 0.1 inch to 28 inches by 34 inches by 6 inches) are not within the scope of the antidumping duty and countervailing duty orders; June 8, 2011.

A-570-951: Certain Woven Electric Blankets from the People's Republic of China.

Requestor: Eurow & O'Reilly Corporation; knitted fleece automotive electric blanket is not within the scope of the antidumping duty order; April 14, 2011.

Japan

A-588-804: Ball Bearings and Parts Thereof from Japan.

Requestor: Aisin Holdings of America; worm assemblies and seat track rollers are not within the scope of the antidumping duty order; May 12, 2011.

A-588-804: Ball Bearings and Parts Thereof from Japan.

Requestor: American NTN Bearing Manufacturing Corporation; magnetic encoders used in antilock braking systems in automobiles are not within the scope of the antidumping duty order; June 1, 2011.

Multiple Countries

A-570-922/C-570-923/A-583-842: Raw Flexible Magnets from the People's Republic of China and Taiwan.

Requestor: Jingzhou Meihou Flexible Magnet Co. Ltd; its rolls of meter-wide magnet sheeting, craft magnets, and door gasket extrusions are within the scope of the antidumping duty and countervailing duty orders; May 10, 2011.

Anticircumvention Determinations Completed Between April 1, 2011, and June 30, 2011

None.

Scope Inquiries Pending as of June 30, 2011

People's Republic of China

A-570-504: Petroleum Wax Candles from the People's Republic of China.

Requestor: Trade Associates Group, Ltd.; whether its candles (multiple designs) are within the scope of the antidumping duty order; requested June 11, 2009.

A-570-504: Petroleum Wax Candles from the People's Republic of China.

Requestor: Sourcing International, LLC; whether its flower candles are within the scope of the antidumping duty order; requested June 24, 2009.

A-570-504: Petroleum Wax Candles from the People's Republic of China.

Requestor: Sourcing International; whether its candles (multiple designs) are within the scope of the antidumping duty order; requested July 28, 2009.

A-570-504: Petroleum Wax Candles from the People's Republic of China.

Requestor: Sourcing International; whether its floral bouquet candles are within the scope of the antidumping duty order; requested August 25, 2009.

A-570-504: Petroleum Wax Candles from the People's Republic of China.

Requestor: Candym Enterprises Ltd.; whether its vegetable candles are within the scope of the antidumping duty order; requested November 9, 2009.

A-570-601: Tapered Roller Bearings from the People's Republic of China.

Requestor: DF Machinery International, Inc.; whether certain agricultural hub units are within the scope of the antidumping duty order; requested May 12, 2011.

A-570-831: Fresh Garlic from the People's Republic of China.

Requestor: General Mills, Inc.; whether minced garlic is within the scope of the antidumping duty order; requested April 13, 2011.

A-570-864: Pure Magnesium in Granular Form from the People's Republic of China.

Requestor: ESM; whether U.S.-origin pure magnesium exported to the PRC for atomization and re-exported to the U.S. is within the scope of the order; requested February 11, 2011; initiated May 2, 2011.

A-570-864: Pure Magnesium in Granular Form from the People's Republic of China.

Requestor: US Magnesium LLC; whether pure magnesium feedstock exported from the PRC to Mexico and then processed into granular magnesium before exportation to the U.S. is within the scope of the order; requested April 29, 2011; initiated July 5, 2011.

A-570-891: Hand Trucks from the People's Republic of China.

Requestor: WelCom Products; whether its MC2 Magna Cart, MCI Magna Cart and MCK Magna Cart are within the scope of the antidumping duty order; requested October 12, 2010; initiated October 27, 2010; preliminary ruling May 9, 2011.

A-570-920/C-570-921: Lightweight Thermal Paper from the People's Republic of China.

Requestor: Paper Resources, LLC.; whether certain lightweight thermal paper (“LWTP”) converted into smaller LWTP rolls in the PRC, from jumbo LWTP rolls produced in certain third countries, is within the scope of the antidumping duty and countervailing duty orders; requested February 24, 2011; initiated April 4, 2011.

A-570-951: Certain Woven Electric Blankets from the People's Republic of China.

Requestor: HoMedics Inc.; whether its knitted electric heating blanket is within the scope of the antidumping duty order; requested June 22, 2011.

A-570-967: Aluminum Extrusions from the People's Republic of China.

Requestor: A.O. Smith Corporation; whether water heater anodes are within the scope of the antidumping duty order; requested June 14, 2011.

A-570-967/C-570-968: Aluminum Extrusions from the People's Republic of China.

Requestor: American Fence Manufacturing Company LLC; whether fence sections, posts and gates are within the scope of the antidumping duty and countervailing duty orders; requested June 15, 2011.

A-570-967/C-570-968: Aluminum Extrusions from the People's Republic of China.

Requestor: Endura Products; whether door thresholds containing aluminum extrusions imported from the PRC are within the scope of the antidumping duty and countervailing duty orders; requested: June 2, 2011.

A-570-967/C-570-968: Aluminum Extrusions from the People's Republic of China.

Requestor: Origin Point Brands; whether imported aluminum fencing systems are within the scope of the antidumping duty and countervailing duty orders; requested June 27, 2011.

Mexico

A-201-830: Carbon and Certain Alloy Steel Wire Rod from Mexico.

Requestor: Nucor Corporation and Cascade Steel Rolling Mills, Inc.; whether wire rod with an actual diameter between 4.75 and 5.00 millimeters is within the scope of the antidumping order; requested 2/14/2011; initiated May 31, 2011.

Italy

A-475-822: Stainless Steel Plate in Coils from Italy.

Requestor: AAVID Thermalloy LLC. (“AAVID”); whether 24 steel clips imported by AAVID are within the scope of the antidumping duty order; requested June 1, 2011.

Multiple Countries

A-201-837/A-570-954/C-570-955: Magnesia Carbon Bricks from Mexico and the People's Republic of China.

Requestor: Fedmet Resources Corporation: whether its magnesia alumina carbon bricks are within the scope of the antidumping duty and countervailing duty orders; accepted June 28, 2011.

A-533-838/C-533-839/A-570-892: Carbazole Violet Pigment 23 from India and the People's Republic of China.

Requestor: Nation Ford Chemical Co., and Sun Chemical Corp.; whether finished carbazole violet pigment exported from Japan is within the scope of the antidumping duty and countervailing duty orders; requested February 23, 2010; preliminary ruling May 6, 2011.

A-570-958/C-570-959/A-560-823/C-560-824: Coated Paper from the People's Republic of China and Indonesia.

Requestor: Gold East Paper (Jiangsu) Co., Ltd. and its subsidiaries, Pindo Deli Pulp and Paper Mills, PT. Indah Kiat Pulp & Paper Tbk, and Paper Max, Ltd.; whether certain packaging paperboard products and certain playing card products are within the scope of the antidumping and countervailing duty orders; requested June 2, 2011.

Anticircumvention Rulings Pending as of June 30, 2011

A-570-836: Glycine from the People's Republic of China.

Requestor: Geo Specialty Chemicals, Inc. and Chattem Chemicals, Inc.; whether glycine from the PRC, when processed and re-packaged in India and exported as Indian-origin glycine, is circumventing the antidumping duty order; requested December 18, 2009; initiated October 22, 2010.

A-570-849: Certain Cut-to-Length Carbon Steel from the People's Republic of China.

Requestor: ArcelorMittal USA, Inc.; Nucor Corporation; SSAB N.A.D., Evraz Claymont Steel and Evraz Oregon Steel Mills; whether certain cut-to-length carbon steel plate from the PRC that contains a small level of boron is circumventing the antidumping duty order; requested February 17, 2010; preliminary determination published February 22, 2011.

A-570-894: Certain Tissue Paper Products from the People's Republic of China.

Requestor: Seaman Paper Company of Massachusetts, Inc.; whether certain imports of tissue paper from the Socialist Republic of Vietnam are circumventing the antidumping duty order through means of third country assembly or completion; requested February 18, 2010; initiated March 29, 2010; preliminary determination published April 6, 2011.

A-570-916/C-570-917: Laminated Woven Sacks from the People's Republic of China.

Requestor: Coating Excellence International, LLC and Polytex Fibers Corporation; whether laminated woven sacks that are printed with two ink colors, but have the appearance of three or more colors in register, are circumventing the antidumping and countervailing duty orders; requested January 26, 2011; initiated April 22, 2011.

A-570-918: Steel Wire Garment Hangers from the People's Republic of China.

Requestor: M&B Metal Products Inc.; whether certain imports of steel wire garment hangers from the Socialist Republic of Vietnam are circumventing the antidumping duty order through means of third country assembly or completion of merchandise imported from the PRC; requested May 5, 2010; initiated July 22, 2010; preliminary determination published May 10, 2011.

A-570-929: Small Diameter Graphite Electrodes from the People's Republic of China.

Requestor: SGL Carbon LLC and Superior Graphite Co.; whether unfinished small diameter graphite electrodes produced in the PRC and completed and assembled in the United Kingdom are circumventing the antidumping duty order; requested November 30, 2010; initiated February 17, 2011.

Russia

A-821-807: Ferrovanadium and Nitrided Vanadium from Russia.

Requestor: AMG Vanadium, Inc.; whether vanadium pentoxide imports from Russia that are converted into ferrovanadium in the United States are circumventing the antidumping duty order; requested February 25, 2011; initiated May 2, 2011.

Interested parties are invited to comment on the completeness of this list of pending scope and anticircumvention inquiries. Any comments should be submitted to the Deputy Assistant Secretary for AD/CVD Operations, Import Administration, International Trade

Administration, 14th Street and Constitution Avenue NW., APO/Dockets Unit, Room 1870, Washington, DC 20230. This notice is published in accordance with 19 CFR 351.225(o).

Dated: February 8, 2012.
Christian Marsh,
Deputy Assistant Secretary for Antidumping and Countervailing Duty Operations.

[FR Doc. 2012-3711 Filed 2-17-12; 8:45 am]

BILLING CODE 3510-DS-P